NATIONAL SCIENCE FOUNDATION

Public Availability of the National Science Foundation Analysis of the 2011 Service Contract Inventory and the Plan for Analyzing the 2012 Service Contract Inventory

AGENCY: National Science Foundation.

ACTION: Notice of Public Availability of the Analysis of the 2011 Service Contract Inventory and the Plan for Analyzing the 2012 Service Contract Inventory.

SUMMARY: In accordance with Section 743 of Division C of the Consolidated Appropriations Act of 2010 (Pub. L. 111-117), the National Science Foundation is publishing this notice to advise the public of the availability of the Analysis of the 2011 Service Contract Inventory and the Plan for Analyzing the 2012 Service Contract Inventory. The inventory has been developed in accordance with guidance issued on November 5, 2010, and December 19, 2011, by the Office of Management and Budget's Office of Federal Procurement Policy (OFPP). OFPP's guidance is available at http://www.whitehouse.gov/sites/default/files/omb/procurement/memo/service-contract-inventories-guidance-11052010.pdf and http://www.whitehouse.gov/sites/default/files/omb/procurement/memo/service-contract-inventory-guidance.pdf. The National Science Foundation has posted its Analysis of the 2011 Service Contract Inventory and the Plan for Analyzing the 2012 Service Contract Inventory on the National Science Foundation homepage at the following links: http://www.nsf.gov/publications/pub_summ.jsp?ods_key=nsf13055http://www.nsf.gov/publications/pub_summ.jsp?ods_key=nsf13056.

FOR FURTHER INFORMATION CONTACT: Questions regarding the service contract inventory should be directed to Richard Pihl in the BFA/DACS at 703-292-7395 or rpihl@nsf.gov.

Dated: February 14, 2013.
Suzanne Plimpton,
Reports Clearance Officer, National Science Foundation.

[FR Doc. 2013-03823 Filed 2-19-13; 8:45 am]

BILLING CODE 7555-01-P